FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATE: The date of issuance of the Flood Insurance Rate Map (FIRM) showing base flood elevations and modified base flood elevations for each community. This date may be obtained by contacting the office where the FIRM is available for inspection as indicated in the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR Part 67.

FEMA has developed criteria for floodplain management in floodprone areas in accordance with 44 CFR Part 60.

Interested lessees and owners of real property are encouraged to review the proof Flood Insurance Study and FIRM available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Associate Director for Mitigation certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. *Elevation in feet (NGVD)
CALIFORNIA
Butte County (and Incorporated Areas) (FEMA Docket No. 7270)
Keefer Slough:
Just upstream of State Route 99 | None
Approximately 930 feet upstream of Keefer Road | None
Maps are available for inspection at the Butte County Public Works Department, 7 County Center Drive, Oroville, California.
———
Fremont (City), Alameda County (FEMA Docket No. 7242)
Line K (Zone 6):
At confluence with Line E (Zone 6) Laguna Creek | *42
Approximately 2,170 feet upstream of Paseo Padre Parkway (at downstream end of 60-inch reinforced concrete pipe) | *263
Line B (Zone 5):
At upstream side of Interstate 880 | *32
Approximately 630 feet upstream of Paseo Padre Parkway | *56
Line C (Zone 6) (Torges Creek):
At confluence of Line D (Zone 6) | *13
Just upstream of Interstate 680 | *183
Line E (Zone 6) Laguna Creek:
At mouth | *9
Approximately 2,400 feet downstream of Cushing Parkway | *10
Approximately 50 feet upstream of parking lot driveway | *54
Line F (Zone 6) Arroyo Del Agua Caliente Creek:
At confluence with Line E (Zone 6) Laguna Creek | *10
Approximately 1,300 feet upstream of Curtner Road | *200
Maps are available for inspection at the City of Fremont Planning Department, 39550 Liberty Street, Fremont, California.
IDAHO
Carey (City) and Blaine County (Unincorporated Areas) (FEMA Docket No. 7294)
Little Wood River:
Approximately 1.5 miles downstream of Santa Rosa Lane | *4,754
Approximately 1.2 miles upstream of Highway 26/93 (Main Street) | *4,805
Middle Branch of Little Wood River:
Approximately 50 feet upstream of Griffin Loop Road | *4,761
At confluence with Little Wood River, approximately 1,700 feet upstream of Highway 26/93 (Main Street) | *4,786
Maps are available for inspection at the Planning and Zoning Department, 206 First Avenue South, Suite 310, Hailey, Idaho.
Maps are available for inspection at the City of Carey, 20516 Main Street, Carey, Idaho.
IOWA
Dickinson County (Unincorporated Areas) (FEMA Docket No. 7290)
Lower Gar Outlet Channel:
Approximately 2,700 feet upstream of confluence with Little Sioux River | *1,354
Approximately 1.23 miles (6,480 feet) upstream of County Road A34 | *1,397
Spirit Lake:
Entire lake shoreline | *1,404
Okoboji Lake Chain:
Entire lake shoreline | *1,399
Maps are available for inspection at the Dickinson County Zoning Office, 1810 Ithaca Avenue, Spirit Lake, Iowa.
NEVADA
Washoe County (and Incorporated Areas) (FEMA Docket No. 7298)
Mogul Creek:
At intersection with Interstate 80 Frontage Road | *4,680
Approximately 1,050 feet upstream from Cliff View Court | *4,737
Maps are available for inspection at Washoe County Engineering, 1001 East 9th Street, Reno, Nevada.
Maps are available for inspection at the Community Development Office, 450 Sinclair Street, Reno, Nevada.
TEXAS
Harris County (and Incorporated Areas) (FEMA Docket No. 7270)
Bens Branch (G103-33-00):
Just upstream of confluence with Lake Houston | *50
Just upstream of Tree Lake Court | *66
Approximately 2,800 feet upstream of Woodland Hills | *74
Brays Bayou:
Just upstream of Forest Hill Boulevard | ++18
Just upstream of Martin Luther King Boulevard | ++32
Approximately 300 feet downstream of Kirby Drive | ++48
At the intersection of Cason and Swanee | ++49
Just upstream of Southern Pacific Railroad | ++51
Just upstream of Interstate 610 | ++53
Approximately 1,000 feet upstream of Beechnut | ++70
Just upstream of Dairy Ashford Road | ++79
Approximately 1,100 feet upstream of Addicks-Clodine Road | ++83
Yates Gully: Approximately 1,300 feet upstream of South Wayside Drive | ++19
Kuhlman Gully: At Sunrise Drive | ++28
Willow Waterhole Bayou:
Approximately 500 feet upstream of South Post Oak Road | ++52
Just upstream of Chimney Rock Road | ++56
Chimney Rock Diversion Channel:
Approximately 550 feet upstream of Ruthglenn Avenue | ++56
Approximately 400 feet upstream of McKnight | ++56
Tributary 17.42 to Brays Bayou:
Approximately 700 feet downstream of Grape | ++61
Just downstream of Neff Drive | ++65
Fondren Diversion Channel:
Approximatley 2,000 feet downstream of West Bellefort | ++61
Just downstream of Arbor Ridge | ++64
Approximately 1,900 feet upstream of McLain Boulevard | ++67
Keegans Bayou:
Approximately 1,500 feet upstream of South Braeswood Boulevard | ++68
Just downstream of U.S. Highway 59 | ++77
Approximately 1,000 feet upstream of Synott Road | ++86
Tributary 20.86 to Brays Bayou:
Just downstream of Carvel Lane | ++69
Just upstream of Leader Street | ++72
Just upstream of Harwin Drive | ++74
Tributary 20.90 to Brays Bayou:
Approximately 1,300 feet downstream of Sam Houston Tollway | ++69
Approximately 2,300 feet upstream of Kirkwood Road | ++80
Tributary 21.95 to Brays Bayou:
Just downstream of Bellepark Drive | ++72
Approximately 800 feet downstream of Synott Road | ++82
Tributary 22.69 to Brays Bayou:
Approximately 200 feet downstream of Richmond Avenue | ++74
Approximately 400 feet upstream of Richmond Avenue | ++74
Tributary 23.53 to Brays Bayou:
Approximately 150 feet upstream of Bellepark Drive | ++75
Just upstream of Dairy Ashford Road | ++76
Tributary 26.20 to Brays Bayou: Approximately 2,000 feet upstream of Piping Rock Road | ++84
Tributary 29.16 to Brays Bayou:
Approximately 1,200 feet downstream of Old Winkleman Road | ++84
At the intersection of Marchena Road and Mesita Drive | ++84
Approximately 200 feet upstream of Addicks-Clodine Road | ++85
———
Fort Bend County (and Incorporated Areas)
Keegans Bayou:
Along Monticeto Lane, approximately 500 feet west of the intersection of Briarwood | ++83
Just south of Belknap Road, approximately 500 feet west of the intersection of Maykirk | ++84
Approximately 1,000 feet upstream of Synott Road | ++86
++NGVD—1987 Releveling
Maps are available for inspection at the Harris County Flood Control District Building, 9900 Northwest Freeway, Suite 103, Houston, Texas.
Maps are available for inspection at the City of Piney Point Village City Office, 7721 San Felipe, Suite 100, Houston, Texas.
Maps are available for inspection at Putney, Moffitt & Easley, Inc., 1303 Sherwood Forest, Houston, Texas.
Maps are available for inspection at 7007 South Rice, Bellaire, Texas.
Maps are available for inspection at the City of Houston Building (Basement), 1801 Main, Houston, Texas.
Maps are available for inspection at the City of Humble City Hall, 114 West Higgins, Humble, Texas.
Maps are available for inspection at the Office of the Chief Building Official, 3826 Amherst, West University Place, Texas.
Maps are available for inspection at the City of Stafford City Hall, 2610 South Main, Stafford, Texas.
Maps are available for inspection at the City of Missouri City, City Hall, 1522 Texas Parkway, Missouri City, Texas.
Maps are available for inspection at the City of Galena Park, City Hall, 2000 Clinton Drive, Galena Park, Texas.
Maps are available for inspection at 800 First City Tower, 1001 Fannin Street, Houston, Texas.
Maps are available for inspection at Fort Bend County, 301 Jackson Street, Suite 719, Richmond, Texas.
Maps are available for inspection at 2300 First City Tower, 1001 Fannin, Houstin, Texas.
Maps are available for inspection at the City of Meadows Place, City Hall, One Troyan Drive, Meadows Place, Texas.
Maps are available for inspection at the City of Sugarland Engineering Department, 10405 Corporate Drive, Sugarland, Texas.
Maps are available for inspection at the City of Southside Place, City Hall, 6309 Edloe Street, Houston Texas.
———
Harris County (and Incorporated Areas) (FEMA Docket No. 7298)
White Oak Bayou (E-100-00-00):
At confluence with Buffalo Bayou (W100-00-00) | *38
Just upstream of West 18th Street | *59
Just upstream of Lakeview Drive | *107
Approximately 300 feet upstream of Huffmeister Road | *133
Little White Oak Bayou (E101-00-00):
At confluence with White Oak Bayou (E100-00-00) | *43
Just upstream of West Rittenhouse | *86
Brickhouse Gully (E115-00-00):
At confluence with White Oak Bayou (E100-00-00) | *68
Just upstream of Campbell Road | *90
Approximately 700 feet upstream of Talina Way | *101
Cole Creek (E117-00-00):
At confluence with White Oak Bayou (E100-00-00) | *73
Approximately 1,300 feet upstream of Sommermeyer Road | *104
Vogel Creek (E121-00-00):
At confluence with White Oak Bayou (E100-00-00) | *77
Just upstream of West Gulf Bank Road | *85
Just upstream of Silentwood Lane | *108
Approximately 2,500 feet upstream of FairBanks-Fallbrook Road | *115
Ditch (E141-00-00):
At confluence with White Oak Bayou (E100-00-00) | *103
Approximately 9,200 feet upstream of Windfern Forest | *108
Maps are available for inspection at Harris County Permits Division, 9900 North West Freeway, Houston, Texas.
Maps are available for inspection at the Planning and Development Office, 611 Walker, 6th Floor, Houston, Texas.
Maps are available for inspection at the Public Works Department, 16501 Jersey Drive, Houston, Texas.
———
Harris County (and Incorporated Areas) (FEMA Docket No. 7242)
Clear Creek:
Approximately 4,300 feet upstream of Interstate 45/75 | +14
Just upstream of Edgewood Drive | +26
Approximately 1,000 feet upstream of Mykawa Road | +47
Approximately 800 feet upstream of South Freeway | +58
Tributary 10.08 to Clear Creek:
Just downstream of Interstate 45/75 | +12
Approximately 850 feet downstream of Forest Park Cemetery Road | +13
Turkey Creek: Approximately 2,000 feet upstream of Beamer Road | +28
Halls Road Ditch: Approximately 1,600 feet upstream of Dixie Farm Road | +29
———
Fort Bend County (and Incorporated Areas) (FEMA Docket No. 7242)
Clear Creek:
Just downstream of Missouri Pacific Railroad | +63
Downstream of Rouen Road | +70
Maps are available for inspection at the Harris County Engineering Division, c/o Ms. Lupe Zamora, Permit Department, 9900 Northwest Freeway, Suite 103, Houston, Texas.
Maps are available for inspection at the City of Houston, c/o Mr. Mike Loomis, Floodplain Group, P.O. Box 1562, Houston, Texas.
Maps are available for inspection at the Fort Bend County Engineer's Office, 1124 Blume Road, Rosenberg, Texas.
Maps are available for inspection at the City of Webster, c/o Mr. Jim Williams, Director of Community Development, P.O. Box 57130, Webster, Texas.

(Catalog of Federal Domestic Assistance No. 83.100, “Flood Insurance.”)
Dated: January 28, 2000.
Michael J. Armstrong,
Associate Director for Mitigation.

[FR Doc. 00-2800 Filed 2-7-00; 8:45 am]

BILLING CODE 6718-04-P